DEPARTMENT OF COMMERCE

National Oceanic and Atmospheric Administration

RIN 0648-XG989

Fisheries of the Caribbean, Gulf of Mexico, and South Atlantic, Shrimp Fishery of the Gulf of Mexico; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from Dr. Glenn Parsons, University of Mississippi. If granted, the EFP would authorize the use of an experimental bycatch reduction device (BRD) in the shrimp trawl fishery in Federal waters of the Gulf of Mexico (Gulf). The project would seek feedback on industry acceptance of the experimental BRD and provide informal comparisons between the experimental BRD and currently certified BRDs during normal shrimp trawl fishing operations.

DATES: Written comments must be received on or before June 18, 2019.

ADDRESSES: You may submit comments on the application, identified by “NOAA-NMFS-2019-0052” by any of the following methods:

• Electronic Submission: Submit all electronic public comments via the Federal e-Rulemaking Portal. Go to www.regulations.gov/#!docketDetail;D=NOAA-NMFS-2019-0052, click the “Comment Now!” icon, complete the required fields, and enter or attach your comments.

• Mail: Frank Helies, Southeast Regional Office, NMFS, 263 13th Avenue South, St. Petersburg, FL 33701.

• Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the application may be obtained from the Southeast Regional Office website at https://www.fisheries.noaa.gov/southeast/commercial-fishing/experimental-shrimp-trawl-bycatch-reduction-device.

FOR FURTHER INFORMATION CONTACT: Frank Helies, 727-824-5305; email: frank.helies@noaa.gov.

SUPPLEMENTARY INFORMATION: The EFP is requested under the authority of the Magnuson-Stevens Fishery Conservation and Management Act (16 U.S.C. 1801 et seq.), and regulations at 50 CFR 600.745(b) concerning exempted fishing.

The EFP application submitted to NMFS involves the use of experimental gear in Federal waters. Federal regulations require most shrimp vessels to use NMFS approved bycatch reduction devices (BRD) while shrimp trawling in Federal waters in the Gulf (50 CFR 622.53). The EFP would exempt seven vessels from the BRD requirement to allow the applicant to replace an existing approved BRD with the experimental BRD.

The primary goal of the project is to solicit industry feedback on the Nested Cylinder BRD (NCBRD) to determine whether to seek certification by NMFS and market this new type of BRD to the shrimp industry. The NCBRD has been in development since 2015, with the research work funded through NMFS grant programs. The NCBRD exploits the natural tendency for fish to swim up current and to take refuge in reduced flow areas created by the device. The NCBRD is sewn into the trawl “bag” downstream of the turtle excluder device (TED). The NCBRD is constructed with a continuous flow-blocking collar made of galvanized steel or marine grade aluminum, which creates a region of reduced flow that attracts fish. This reduced flow area is adjacent to large mesh netting (11.5 cm square) that encircles the NCBRD to create escape openings and provides the opportunity for fish to exit the trawl. The webbing extension on the front of the NCBRD measures 120 meshes in circumference, four meshes in length, where the mesh in place is 41 mm stretch mesh. A 40-inch (104-cm) long webbing “funnel” connects to the inner cylinder of the NCBRD and is 60 meshes in circumference, 26 meshes in length, and uses 41 mm stretch mesh. The funnel displaces all organisms downstream of the escape opening such that the fish must swim upstream into the flow “shadow” to exit the trawl. Two floats attached to the top of the device provide flotation to prevent scuffing of the gear on the ocean bottom.

Since 2015, the NCBRD has been used on a variety of Gulf and South Atlantic commercial shrimp vessels contracted for research evaluation in Federal waters. Successful NMFS at-sea NCBRD certification trials were completed in December 2016, as prescribed in the BRD Testing Protocol Manual (81 FR 95056, December 27, 2016). Under this EFP, an existing certified BRD on seven Gulf shrimp vessels would be replaced with the NCBRD in one outboard net during normal fishing operations. This will allow for comparison between the different BRDs. The applicant intends to obtain opinions, comments, and suggestions from Gulf shrimpers that might encourage them to use the device. To ensure proper use of the NCBRD, the applicant would make site visits to each participant to demonstrate proper installation in the trawl and request shrimpers use the device for at least 30 trawls during normal fishing operations. All trawling would be conducted in the northern Gulf shrimp grounds offshore of Alabama, Louisiana, Mississippi, and Texas. Depths typically range from a few meters out to approximately 65 meters. Tow times would be no less than 1 hour in duration. All shrimp trawlers would still be required to comply with the TED regulations at 50 CFR 223.206(d)(2).

The applicant has requested the EFP be effective for one year from the date of issuance.

NMFS finds the application warrants further consideration based on a preliminary review. Possible conditions the agency may impose on the permit, if granted, include but are not limited to, a prohibition on conducting activities within marine protected areas, marine sanctuaries, special management zones, or areas where they might interfere with managed fisheries without additional authorization. A final decision on issuance of the EFP will depend on NMFS' review of public comments received on the application, consultations with the appropriate fishery management agencies of the affected states, Councils, and the U.S. Coast Guard, and a determination that the activities to be taken under the EFP are consistent with all applicable laws and regulations.

Authority: 16 U.S.C. 1801 et seq.

Dated: May 28, 2019.
Jennifer M. Wallace,
Acting Director, Office of Sustainable Fisheries, National Marine Fisheries Service.

[FR Doc. 2019-11455 Filed 5-31-19; 8:45 am]

BILLING CODE 3510-22-P